DEPARTMENT OF HOMELAND SECURITY

U.S. Customs and Border Protection

Modification of National Customs Automation Program (NCAP) Test Concerning the Automated Commercial Environment (ACE) Partner Government Agency (PGA) Message Set Regarding Types of Transportation Modes and Certain Data Required by the National Highway Traffic Safety Administration (NHTSA)

AGENCY: U.S. Customs and Border Protection, Department of Homeland Security.

ACTION: General notice.

SUMMARY: This document announces U.S. Customs and Border Protection's (CBP's) plan to modify the National Customs Automation Program (NCAP) test concerning the transmission of electronic filings through the Automated Commercial Environment (ACE), known as the Partner Government Agency (PGA) Message Set test. These modifications extend the current PGA Message Set to cover entries arriving by ocean, truck, rail, and air modes of transportation at CBP-designated ports and expands the use of the ACE PGA Message Set for the transmission of U.S. Department of Transportation, National Highway Traffic Safety Administration (NHTSA) import data for entries of motor vehicles and motor vehicle equipment items. CBP invites public comment concerning the test program.

DATES: The modified PGA Message Set test will commence no earlier than August 10, 2015, and will continue until concluded by way of announcement in the Federal Register. Comments will be accepted through the duration of the test.

ADDRESSES: Comments concerning this notice and any aspect of this test may be submitted at any time during the test via email to Josephine Baiamonte, ACE Business Office (ABO), Office of International Trade at josephine.baiamonte@cbp.dhs.gov. In the subject line of your email, please indicate, “Comment on NHTSA PGA Message Set Test FRN”.

FOR FURTHER INFORMATION CONTACT: For NHTSA-related PGA Message Set test questions, interested parties should send an email message to Clint Lindsay at Clint.Lindsay@dot.gov or Coleman Sachs at Coleman.Sachs@dot.gov, and they should send a copy of that message to their assigned CBP client representative. For technical questions related to the Automated Commercial Environment (ACE) or Automated Broker Interface (ABI) transmissions, contact your assigned client representative. Interested parties without an assigned client representative should direct their questions to Steven Zaccaro at steven.j.zaccaro@cbp.dhs.gov with the subject heading “PGA Message Set NHTSA Test FRN-Request to Participate”.

SUPPLEMENTARY INFORMATION:

Background

This test notice, and the Customs related electronic functions it describes, are part of the National Customs Automation Program (NCAP). NCAP was established in Subtitle B of Title VI—Customs Modernization, in the North American Free Trade Agreement Implementation Act (Pub. L. 103-182, 107 Stat. 2057, December 8, 1993) (Customs Modernization Act). See 19 U.S.C. 1411. Through NCAP, the initial focus of customs modernization was on trade compliance and the development of the Automated Commercial Environment (ACE), the planned successor to the legacy Customs Automated Commercial System (ACS). ACE is an automated and electronic system for commercial trade processing. ACE will streamline business processes, facilitate growth in trade, ensure cargo security, and foster participation in global commerce, while ensuring compliance with U.S. laws and regulations and reducing costs for CBP and all its communities of interest. The ability to meet these objectives depends upon successfully modernizing CBP's business functions and the information technology that supports those functions. CBP's modernization efforts are accomplished through phased releases of ACE component functionality, designed to introduce a new capability or to replace a specific legacy ACS function. Each release will begin with a test, and will end with mandatory compliance with the new ACE feature, thus retiring the legacy ACS function. Each release builds on previous releases, and sets the foundation for subsequent releases.

On December 13, 2013, U.S. Customs and Border Protection (CBP) published in the Federal Register a notice announcing a National Customs Automation Program (NCAP) test called the Partner Government Agency (PGA) Message Set test. See 78 FR 75931. This test is in furtherance of key CBP International Trade Data System (ITDS) initiatives, as provided in the Security and Accountability For Every Port Act of 2006 (“SAFE Port Act”), Pub. L. 109-347, 120 Stat. 1884 (19 U.S.C. 1411(d)), to achieve the vision of ACE as the “single window” for the Government and trade community. ACE will automate and enhance the interaction between international trade partners, CBP, and PGAs by facilitating electronic collection, processing, sharing, and review of trade data and documents required by Federal agencies during the cargo import and export process. The use of ACE to process trade data will significantly increase efficiency and reduce costs compared to the traditional manual method of processing of paper forms.

The PGA Message Set is the data required to satisfy the PGAs' reporting requirements.

ACE will enable the trade community to submit trade-related data, required by the PGAs, only once to CBP, thus improving communications between agencies and filers, and shortening entry processing time. This data must be submitted at any time prior to the arrival of the merchandise on the conveyance transporting the cargo to the United States as part of the ACE Cargo Release process. The data will be validated and made available to the relevant PGAs involved in import, export, and transportation-related decision making. The data will satisfy the filer's obligation to make entry and will allow for earlier release decisions and more certainty for the importer in determining the logistics of cargo delivery. Also, by virtue of being electronic, the PGA Message Set will eliminate the necessity for the submission and subsequent manual processing of paper documents.

The December 2013 Federal Register notice announced that ACE would be accepting certain PGA data elements for the Environmental Protection Agency (EPA) and the U.S. Department of Agriculture, Food Safety and Inspection Service (FSIS) for type “01” (consumption) and type “11” (informal) commercial entries filed at specified ports. The December 2013 Federal Register notice also provides additional background on the NCAP and the International Trade Data System (ITDS). On February 4, 2015, CBP published the announcement that it had broadened the PGA Message Set test to accept additional PGA data elements for the EPA, for type “01” (consumption) and type “11” (informal) commercial entries filed at specified ports. See 80 FR 6098.

For the convenience of the public, a chronological listing of Federal Register publications detailing ACE test developments is set forth below in Section XIV, entitled,

“Development of ACE Prototypes”. The procedures and criteria related to participation in the previous ACE notices remain in effect unless otherwise explicitly changed by this or subsequent notices published in the Federal Register.

I. Authorization for the Test

The Customs Modernization Act provides the Commissioner of CBP with authority to conduct limited test programs or procedures designed to evaluate planned components of the NCAP. This test is authorized pursuant to section 101.9(b) of title 19 of the Code of Federal Regulations (19 CFR 101.9(b)) which provides for the testing of NCAP programs or procedures. See Treasury Decision (T.D.) 95-21.

II. Partner Government Agency Message Set for Four Transportation Modes

This document announces CBP's plan to expand the PGA Message Set to allow submission of certain data, which PGAs require, for informal and formal consumption entries arriving by air, ocean, rail, or truck mode of transportation.

At this time, a limited number of ports will be accepting PGA Message Set data. A list of those ports is provided on the following Web site: http://www.cbp.gov/document/guidance/list-aceitds-pga-message-set-pilot-ports. Those ports will accept PGA Message Set data for entries arriving by air, ocean, rail, or truck mode of transportation.

CBP may expand this test to include additional ports in the future. CBP may also expand the commodities that are within the scope of the test, as indicated by the Harmonized Tariff Schedule (HTS) codes, on the following Web site: http://www.cbp.gov/trade/ace/catair#field-content-tab-group-tab-4. Test participants should monitor the Web site for updates to the list of ports accepting PGA Message Set data and the list of HTS codes covered by the test.

III. The National Highway Traffic Safety Administration (NHTSA)

In addition, this document announces CBP's plan to expand the PGA Message Set test to include electronic filings of the NHTSA PGA Message Set for the importation of motor vehicles and motor vehicle equipment items.

NHTSA is responsible for implementing and enforcing the National Traffic and Motor Vehicle Safety Act of 1966, as amended, codified at 49 U.S.C. Chapter 301 (49 U.S.C. 30101 et seq.). Under its authority, NHTSA issues and enforces the Federal motor vehicle safety standards (“FMVSS”), which apply to motor vehicles and certain items of motor vehicle equipment. Section 30112(a)(1) of Title 49 U.S.C. contains a general prohibition on, among other things, importing into the United States motor vehicles or motor vehicle equipment items that do not comply with all applicable FMVSS and that are not covered by a certification issued under 49 U.S.C. 30115. Under 49 CFR 591.5, any person offering a motor vehicle or item of motor vehicle equipment for importation into the United States must file a declaration. This declaration is known as the DOT HS-7 Declaration Form. Under its parallel regulation at 19 CFR 12.80, CBP requires that a declaration be filed in duplicate for motor vehicles or motor vehicle equipment items. In practice, importers or brokers file the HS-7 Declaration Form and supporting documents for these products. The DOT HS-7 Declaration Form, the form's supporting documents, and NHTSA's regulations require the identification of parties associated with the entry of the products that are presented for importation, as well as information on the identity of imported motor vehicles and motor vehicle equipment items.

Importers of motor vehicles or motor vehicle equipment items are required to file a HS-7 Declaration Form and supporting documents with CBP at the time of making entry. Alternatively, importers may file the HS-7 Declaration Form electronically via the Automated Broker Interface (ABI) and present the HS-7 Declaration Form's supporting documents to CBP at the time of entry. NHTSA staff may review the importer's entry information and make a determination as to whether the shipment should be released, detained, or refused. This may involve manual checking of key information against NHTSA databases. The current process is costly and inefficient because it relies on paper documents, and manual data validation and error correction. The review process can take several days during which more costs may be incurred for storage.

CBP is expanding the use of the PGA Message set to include the electronic filing of NHTSA-regulated motor vehicles and motor vehicle equipment items for type “01” (consumption) and type “11” (informal) commercial entries filed at specified ports. The data elements to be filed electronically through the PGA message set are those found in the current paper form (DOT HS-7 Declaration Form), collectively the “NHTSA Vehicle/Equipment Information Collection.” Supporting documents such as the DOT conformance bond form (DOT HS-474) must be submitted electronically at any time prior to the arrival of the merchandise on the conveyance transporting the cargo to the United States via a CBP-approved Electronic Data Interchange (EDI). In a notice published in the Federal Register (79 FR 36083) on June 25, 2014, CBP set forth the rules for filing submissions via DIS and a list of CBP and PGA forms that may be submitted via DIS. Technical information regarding the use of DIS is available at the following Web site: http://www.cbp.gov/trade/ace/features.

The technical requirements for submitting the NHTSA data elements are set forth in the supplemental Customs and Trade Automated Interface Requirements (CATAIR) guidelines for NHTSA. These technical specifications, including the CATAIR chapters and applicable Harmonized Tariff Schedule of the United States (HTSUS) codes, can be found at the following link: http://www.cbp.gov/document/guidance/national-highway-traffic-safety-administration-nhtsa-pga-message-set-manual.

The NHTSA-required entry data will be filed electronically once through the single window for use by both NHTSA and CBP, for pre-arrival screening, using the PGA Message Set. This will eliminate separate document filings for participating importers and as a result, reduce the overall paperwork burden on the importer and the port associated with these NHTSA-regulated shipments. It will also significantly reduce the initial processing and review time for motor vehicle and motor vehicle equipment item entries, provide consistency of these reviews, and eliminate the costs of filing paper documents. The electronic filing will also allow automated checks of certain required information facilitating pre-arrival admissibility verifications, thereby focusing CBP and NHTSA resources on shipments of interest.

At this time, the test will include entries originating in the ocean, truck, rail, and air environment. Upon acceptance into this test, participants will be allowed to transmit the NHTSA data elements for entries originating in the air, ocean, rail, and truck environments, as specified in this notice. During this test, participants will collaborate with CBP and NHTSA to examine the effectiveness of the single window capability.

IV. Test Participant Responsibilities

PGA Message Set test participants will be required to:

• Transmit the NHTSA Vehicle/Equipment Information Collection with the ports that are accepting the ACE PGA Message Set data. A current list of those ports is posted on the following Web site: http://www.cbp.gov/document/guidance/list-aceitds-pga-message-set-pilot-ports.

• Transmit, when applicable, the NHTSA Vehicle/Equipment Information Collection using the NHTSA PGA Message Set and the supporting documents via DIS. This information must be electronically transmitted to ACE using an ACE Entry Summary certified for cargo release at any time prior to the arrival of the merchandise on the conveyance transporting the cargo to the United States;

• Transmit the NHTSA Vehicle/Equipment Information Collection only as part of an ACE Entry Summary certified for cargo release;

• Transmit import filings to CBP via ABI in response to a request for documentation or in response to a request for release information for certified ACE Cargo Release;

• Only transmit to CBP information that has been requested by CBP or NHTSA;

• Use a software program that has completed ACE certification testing for the PGA Message Set; and

• Take part in a CBP evaluation of this test.

Participants are reminded that they should only file documents that CBP can accept electronically. The documents CBP can accept electronically are listed under the Document Image System (DIS) tab of the ACE Features page on the Web site http://www.cbp.gov/trade/ace/features, and, for participants using ABI, in the PGA Message Set part of the CATAIR. When CBP cannot accept additional information electronically, the filer must file the additional information by paper. See 78 FR 75931 at 75934-35 (December 13, 2013), for information on Confidentiality (Section XIII) and Misconduct under the PGA Message Set Test (Section XIV).

V. Waiver of Regulation Under the Test

For purposes of this test, 19 CFR 12.80 will be waived for test participants only insofar as eliminating any requirement that may appear in these regulations to file a paper version of the DOT HS-7 Declaration Form or its supporting documents. In its place, test participants are required to transmit electronically the data elements contained in the DOT HS-7 Declaration Form via the PGA Message Set and the HS-7 Declaration Form's supporting documents via DIS. This document does not waive any recordkeeping requirements found in part 163 of title 19 of the CFR (19 CFR part 163) and the Appendix to part 163 (commonly known as the “(a)(1)(A) list”).

VI. Eligibility Criteria

As announced in this notice, the use of the PGA Message Set test is expanding to accept DOT HS-7 Declaration Form data elements, also known as the NHTSA Vehicle/Equipment Information Collection, and supporting documents. All other eligibility criteria as specified in prior PGA Message Set test notices remain the same. To be eligible to apply for this modification of the PGA data message set test, the applicant must:

• Be a self-filing importer who has the ability to file ACE Entry Summaries certified for cargo release or a broker who has the ability to file ACE Entry Summaries certified for cargo release; and

• File entries for NHTSA-regulated commodities that are the subject of this test at the ports that are accepting PGA Message Set data.

CBP will accept an unlimited number of participants for the test. Test applicants must meet the eligibility criteria described in this document to participate in the test program.

VII. Application Process

Any party seeking to participate in the modified PGA Message Set test concerning NHTSA data should send an email message to Clint Lindsay at Clint.Lindsay@dot.gov or Coleman Sachs at Coleman.Sachs@dot.gov to request participation in the modified test. They should send a copy of that request also to their CBP Client Representative, ACE Business Office (ABO), Office of International Trade. Interested parties without an assigned client representative should submit an email to Steven Zaccaro at steven.j.zaccaro@cbp.dhs.gov with the subject heading “PGA Message Set NHTSA Test FRN-Request to Participate”.

Emails sent to the CBP client representative or to Steven Zaccaro must include the applicant's filer code and the port(s) at which they are interested in filing the appropriate PGA Message Set information.

At this time, PGA Message Set data may be submitted only for entries filed at certain ports. A current listing of those ports may be found on the following Web site: http://www.cbp.gov/document/guidance/list-aceitds-pga-message-set-pilot-ports.

Client representatives will work with test participants to provide information regarding the transmission of this data. CBP will begin to accept applications on August 10, 2015 and will continue to accept applications throughout the duration of the test. CBP will notify the selected applicants by email of their selection and the starting date of their participation. Selected participants may have different starting dates. Anyone providing incomplete information, or otherwise not meeting participation requirements, will be notified by email and given the opportunity to resubmit their application.

VIII. Test Duration

The modified test will begin no earlier than August 10, 2015 and will continue until concluded by way of announcement in the Federal Register. At the conclusion of the test, an evaluation will be conducted to assess the effect that the PGA Message Set has on expediting the submission of NHTSA importation-related data elements and the processing of NHTSA entries. The final results of the evaluation will be published in the Federal Register and the Customs Bulletin as required by section 101.9(b)(2) of the CBP regulations (19 CFR 101.9(b)(2)).

IX. Comments

All interested parties are invited to comment on any aspect of this test at any time. CBP requests comments and feedback on all aspects of this test, including the design, conduct, and implementation of the test, in order to determine whether to modify, alter, expand, limit, continue, end, or fully implement this program.

X. Paperwork Reduction Act

The collections of information in this test modification, DOT HS-7 Declaration Form and supporting documents have been reviewed by OMB in accordance with the requirements of the Paperwork Reduction Act (44 U.S.C. 3507) under control number 2127-0002. An agency may not conduct or sponsor, and a person is not required to respond to, a collection of information unless it displays a valid control number assigned by OMB.

XI. Confidentiality

Data submitted and entered into the ACE Portal includes information that is exempt or restricted from disclosure by law, such as by the Trade Secrets Act (18 U.S.C. 1905). As stated in previous notices, participation in this or any of the previous ACE tests is not confidential and upon a written Freedom of Information Act (FOIA) request, a name(s) of an approved participant(s) will be disclosed by CBP in accordance with 5 U.S.C. 552.

XII. Misconduct Under the Test

A test participant may be subject to civil and criminal penalties, administrative sanctions, liquidated damages, and/or discontinuance from participation in this test for any of the following:

• Failure to follow the terms and conditions of this test.

• Failure to exercise reasonable care in the execution of participant obligations.

• Failure to abide by applicable laws and regulations that have not been waived.

• Failure to deposit duties or fees in a timely manner.

If the Director, Business Transformation, ACE Business Office (ABO), Office of International Trade finds that there is a basis for discontinuance of test participation privileges, the test participant will be provided a written notice proposing the discontinuance with a description of the facts or conduct warranting the action. The test participant will be offered the opportunity to appeal the Director's decision in writing within 10 calendar days of receipt of the written notice. The appeal must be submitted to Acting Executive Director, ABO, Office of International Trade by emailing Deborah.Augustin@cbp.dhs.gov.

The Acting Executive Director will issue a decision in writing on the proposed action within 30 working days after receiving a timely filed appeal from the test participant. If no timely appeal is received, the proposed notice becomes the final decision of the Agency as of the date that the appeal period expires. A proposed discontinuance of a test participant's privileges will not take effect unless the appeal process under this paragraph has been concluded with a written decision adverse to the test participant.

In the case of willfulness or those in which public health, interest, or safety so requires, the Director, Business Transformation, ABO, Office of International Trade, may immediately discontinue the test participant's privileges upon written notice to the test participant. The notice will contain a description of the facts or conduct warranting the immediate action. The test participant will be offered the opportunity to appeal the Director's decision within 10 calendar days of receipt of the written notice providing for immediate discontinuance. The appeal must be submitted to Acting Executive Director, ABO, Office of International Trade by emailing Deborah.Augustin@cbp.dhs.gov. The immediate discontinuance will remain in effect during the appeal period. The Executive Director will issue a decision in writing on the discontinuance within 15 working days after receiving a timely filed appeal from the test participant. If no timely appeal is received, the notice becomes the final decision of the Agency as of the date that the appeal period expires.

XIII. List of PGA Programs Accepting Data Through the ACE PGA Message Set Test

• Environmental Protection Agency (EPA) Ozone Depleting Substances (ODS) program data.

• EPA Vehicle and Engine (V&E) program data.

• EPA Notice of Arrival of Pesticides and Devices (NOA—EPA Form 3540-1) data.

• U.S. Department of Agriculture (USDA), Food Safety and Inspection Service (FSIS), meat, poultry, and egg products data.

• U.S. Department of Transportation (DOT), National Highway Traffic Safety Administration (NHTSA), motor vehicle or motor vehicle equipment declaration (DOT HS-7 Declaration) data.

More information regarding requirements for PGA Information in ACE and Methods for Submissions is available on this Web site: http://www.cbp.gov/trade/ace/features. Select “PGA Integration” tab and click “November 1 PGA Forms List.”

XIV. Development of ACE Prototypes

A chronological listing of Federal Register publications detailing ACE test developments is set forth below.

• ACE Portal Accounts and Subsequent Revision Notices: 67 FR 21800 (May 1, 2002); 69 FR 5360 and 69 FR 5362 (February 4, 2004); 69 FR 54302 (September 8, 2004); 70 FR 5199 (February 1, 2005).

• ACE System of Records Notice: 71 FR 3109 (January 19, 2006).

• Terms/Conditions for Access to the ACE Portal and Subsequent Revisions: 72 FR 27632 (May 16, 2007); 73 FR 38464 (July 7, 2008).

• ACE Non-Portal Accounts and Related Notice: 70 FR 61466 (October 24, 2005); 71 FR 15756 (March 29, 2006).

• ACE Entry Summary, Accounts and Revenue (ESAR I) Capabilities: 72 FR 59105 (October 18, 2007).

• ACE Entry Summary, Accounts and Revenue (ESAR II) Capabilities: 73 FR 50337 (August 26, 2008); 74 FR 9826 (March 6, 2009).

• ACE Entry Summary, Accounts and Revenue (ESAR III) Capabilities: 74 FR 69129 (December 30, 2009).

• ACE Entry Summary, Accounts and Revenue (ESAR IV) Capabilities: 76 FR 37136 (June 24, 2011).

• Post-Entry Amendment (PEA) Processing Test: 76 FR 37136 (June 24, 2011).

• ACE Announcement of a New Start Date for the National Customs Automation Program Test of Automated Manifest Capabilities for Ocean and Rail Carriers: 76 FR 42721 (July 19, 2011).

• ACE Simplified Entry: 76 FR 69755 (November 9, 2011).

• National Customs Automation Program (NCAP) Tests Concerning Automated Commercial Environment (ACE) Document Image System (DIS): 77 FR 20835 (April 6, 2012).

• National Customs Automation Program (NCAP) Test Concerning Automated Commercial Environment (ACE) Simplified Entry: Modification of Participant Selection Criteria and Application Process: 77 FR 48527 (August 14, 2012).

• Modification of NCAP Test Regarding Reconciliation for Filing Certain Post-Importation Preferential Tariff Treatment Claims under Certain FTAs: 78 FR 27984 (May 13, 2013).

• Modification of Two National Customs Automation Program (NCAP) Tests Concerning Automated Commercial Environment (ACE) Document Image System (DIS) and Simplified Entry (SE), 78 FR 44142 (July 23, 2013).

• Modification of Two National Customs Automation Program (NCAP) Tests Concerning Automated Commercial Environment (ACE) Document Image System (DIS) and Simplified Entry (SE); Correction; 78 FR 53466 (August 29, 2013).

• Modification of NCAP Test Concerning Automated Commercial Environment (ACE) Cargo Release (formerly known as Simplified Entry): 78 FR 66039 (November 4, 2013).

• Post-Summary Corrections to Entry Summaries Filed in ACE Pursuant to the ESAR IV Test: Modifications and Clarifications: 78 FR 69434 (November 19, 2013).

• National Customs Automation Program (NCAP) Test Concerning the Submission of Certain Data Required by the Environmental Protection Agency and the Food Safety and Inspection Service Using the Partner Government Agency Message Set Through the Automated Commercial Environment (ACE): 78 FR 75931 (December 13, 2013).

• Modification of National Customs Automation Program (NCAP) Test Concerning Automated Commercial Environment (ACE) Cargo Release for Ocean and Rail Carriers: 79 FR 6210 (February 3, 2014).

• Modification of National Customs Automation Program (NCAP) Test Concerning Automated Commercial Environment (ACE) Cargo Release To Allow Importers and Brokers To Certify From ACE Entry Summary: 79 FR 24744 (May 1, 2014).

• Modification of National Customs Automation Program (NCAP) Test Concerning Automated Commercial Environment (ACE) Cargo Release for Truck Carriers: 79 FR 25142 (May 2, 2014).

• Modification of National Customs Automation Program (NCAP) Test Concerning Automated Commercial Environment Document Image System: 79 FR 36083 (June 25, 2014).

• Announcement of eBond Test: 79 FR 70881 (November 28, 2014).

• eBond Test Modifications and Clarifications: Continuous Bond Executed Prior to or Outside the eBond Test May Be Converted to an eBond by the Surety and Principal, Termination of an eBond, Identification of Principal on an eBond by Filing Identification Number, and Email Address Correction: 80 FR 899 (January 7, 2015).

• Modification of National Customs Automation Program (NCAP) Test Concerning Automated Commercial Environment (ACE) Document Image System Relating to Animal and Plant Health Inspection Service (APHIS) Document Submissions: 80 FR 5126 (January 30, 2015).

• Modification of National Customs Automation Program (NCAP) Test Concerning the use of Partner Government Agency Message Set through the Automated Commercial Environment (ACE) for the Submission of Certain Data Required by the Environmental Protection Agency (EPA): 80 FR 6098 (February 4, 2015).

• Announcement of Modification of ACE Cargo Release Test to Permit the Combined Filing of Cargo Release and Importer Security Filing (ISF) Data: 80 FR 7487 (February 10, 2015).

• Modification of NCAP Test Concerning ACE Cargo Release for Type 03 Entries and Advanced Capabilities for Truck Carriers: 80 FR 16414 (March 27, 2015).

• Automated Commercial Environment (ACE) Export Manifest for Air Cargo Test: 80 FR 39790 (July 10, 2015).

• National Customs Automation Program (NCAP) Concerning Remote Location Filing Entry Procedures in the Automated Commercial Environment (ACE) and the Use of the Document Image System for the Submission of Invoices and the Use of eBonds for the Transmission of Single Transaction Bonds: 80 FR 40079 (July 13, 2015).

Dated: August 4, 2015.
Brenda Smith,
Assistant Commissioner, Office of International Trade.

[FR Doc. 2015-19532 Filed 8-7-15; 8:45 am]

BILLING CODE P